U.S.-CHINA ECONOMIC AND SECURITY REVIEW COMMISSION

Notice of Open Meetings To Prepare Report to Congress

ADVISORY COMMITTEE: U.S.-China Economic and Security Review Commission.

ACTION: Notice of open meetings to prepare Report to Congress—October 11-12, 2007, and October 22-26, 2007 in Washington, DC.

SUMMARY: Notice is hereby given of meetings of the U.S.-China Economic and Security Review Commission.

Name: Carolyn Bartholomew, Chairwoman of the U.S.-China Economic and Security Review Commission.

The Commission is mandated by Congress to investigate, assess, evaluate, and report to Congress annually on the U.S.-China economic and security relationship. The mandate specifically charges the Commission to prepare a report to the Congress “regarding the national security implications and impact of the bilateral trade and economic relationship between the United States and the People's Republic of China * * * [that] shall include a full analysis, along with conclusions and recommendations for legislative and administrative actions * * *”

Purpose of Meeting: Pursuant to this mandate, the Commission will meet in Washington, DC on October 11-12, and October 22-26, 2007, to consider the second and final rounds of drafts of material for its 2007 End-of-Year Report to Congress that have been prepared for its consideration by the Commission staff, and to make modifications to those drafts that Commission members believe are needed.

Topics To Be Discussed: The Commissioners will be considering draft Report sections addressing the following topics:

• The United States-China trade and economic relationship, including the relationship's current status, significant changes during 2007, the control of China's economy by its government, and the effect of that control on the United States,

• China's Military Modernization,

• China's Energy and Environmental Policies and Activities, including the strategic Impact of these policies and activities on the United States and the world and prospects for addressing the effects of China's energy consumption.

Dates and Times: Thursday, October 11, 2007 (9:30 a.m. to 3 p.m.) and Friday, October 12, 2007 (9:30 a.m. to 4 p.m.), Eastern Daylight Time; and Monday through Friday, October 22 to 26, 2007 (9:30 a.m. to 3:30 p.m.) Eastern Daylight Time.

Place of Meeting: Meetings on October 11, 12, and 24 will be held in Conference Room 333 (3rd floor), meetings held on October 22, 23, 25, and 26 will be held in Conference Room 231 (2nd floor) of The Hall of the States located at 444 North Capitol Street, NW., Washington, DC 20001. Public seating is limited, and will be available on a “first-come, first-served” basis. Advance reservations are not required. All participants must register at the front desk of the lobby.

Required Accessibility Statement: The entirety of these Commission editorial and drafting meetings will be open to the public. The Commission may recess the public editorial/drafting meetings to address administrative issues in closed session.

FOR FURTHER INFORMATION ABOUT THESE MEETINGS, CONTACT: Kathy Michels, Associate Director, U.S.-China Economic and Security Review Commission, 444 North Capitol Street, NW., Suite 602, Washington DC 20001; phone 202-624-1409; e-mail kmichels@uscc.gov.

Authority: Congress created the U.S.-China Economic and Security Review Commission in 2000 in the National Defense Authorization Act (Pub. L. 106-398), as amended by Division P of the Consolidated Appropriations Resolution, 2003 (Pub. L. 108-7), as amended by Public Law 109-108 (November 22, 2005).

Dated: September 19, 2007.
Kathleen J. Michels,
Associate Director, U.S.&-China Economic and Security Review Commission.

[FR Doc. E7-18814 Filed 9-24-07; 8:45 am]

BILLING CODE 1137-00-P